DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 11, 2005.

Interested persons are invited to submit written comments regarding the subject matter of the investigations to the Director, Division of Trade Adjustment Assistance, at the address shown below, not later than October 11, 2005.

The petitions filed in this case are available for inspection at the Office of the Director, Division of Trade Adjustment Assistance, Employment and Training Administration, U.S. Department of Labor, Room C-5311, 200 Constitution Avenue, NW., Washington, DC 20210.

Signed at Washington, DC this 15th day of September, 2005.
Timothy Sullivan,
Director, Division of Trade Adjustment Assistance.

Appendix
[Petitions instituted between 08/29/2005 and 09/02/2005]
TA-W | Subject firm (petitioners) | Location | Date of institution | Date of petition
57,847 | Nidec America Corporation (NPS) | Norwood, MA | 08/29/2005 | 08/26/2005
57,848 | Boone International, Inc. (Wkrs) | Corona, CA | 08/29/2005 | 08/23/2005
57,849 | Levi Strauss and Co. (Comp) | San Francisco, CA | 08/29/2005 | 08/25/2005
57,850 | Stanadyne Corporation (State) | Windsor, CT | 08/29/2005 | 08/26/2005
57,851 | Conn-Selmer () | Elkhart, IN | 08/29/2005 | 08/25/2005
57,852 | Flanders Industries, Inc. (State) | Fort Smith, AR | 08/29/2005 | 08/26/2005
57,853 | Indiana Tube (State) | Fort Smith, AR | 08/29/2005 | 08/26/2005
57,854 | Honeywell Nylon, LLC (Comp) | Anderson, SC | 08/29/2005 | 08/26/2005
57,855 | Tree Top, Inc. (State), | MiltonFreewater OR | 08/29/2005 | 08/26/2005
57,856 | Alstom Power, Inc. (Comp) | Easton, PA | 08/29/2005 | 08/29/2005
57,857 | Delta Woodside Industries (Comp) | Wallace, SC | 08/30/2005 | 08/29/2005
57,858A | International Legwear Group () | Athens, TN | 08/30/2005 | 08/25/2005
57,858 | International Legwear Group (Comp) | Hildebran, NC | 08/30/2005 | 08/25/2005
57,859 | Beach and Summer Design (State) | Huntington Park, CA | 08/30/2005 | 08/26/2005
57,860 | Beagle Brand Hosiery, Inc. (Comp) | Hickory, NC | 08/30/2005 | 08/23/2005
57,861 | Ultra Flex Div. of Hickory Springs (Comp) | High Point, NC | 08/30/2005 | 08/22/2005
57,862 | Novacel (USW) | Newton, MA | 08/30/2005 | 08/17/2005
57,863 | Plymouth Printing Co., Inc. (State) | Winston-Salem, NC | 08/31/2005 | 08/30/2005
57,864 | Aroostook Starch Co. (Comp) | Ft. Fairfield, ME | 08/31/2005 | 08/29/2005
57,865 | IBM Corporation (State) | Boulder, CO | 08/31/2005 | 08/30/2005
57,866 | Consolidated Metco, Inc. (IAM) | Clackamas, OR | 08/31/2005 | 08/25/2005
57,867 | Capital City Press, Inc. (Comp) | Barre, VT | 08/31/2005 | 08/31/2005
57,868 | Northland (IBEW) | Watertown, NY | 08/31/2005 | 08/09/2005
57,869 | CarboMedics, Inc. (Comp) | Austin, TX | 08/31/2005 | 08/18/2005
57,870 | International Paper Co. (PACE) | Bastrop, LA | 08/31/2005 | 08/19/2005
57,871A | Del Laboratories (Wkrs) | Union Dale, PA | 08/31/2005 | 08/22/2005
57,871 | Del Laboratories (Wkrs) | Little Falls, NY | 08/31/2005 | 08/22/2005
57,872 | Ametek/Chatillon, Inc. (State) | Kew Gardens, NY | 08/31/2005 | 08/23/2005
57,873 | Conso International (Comp) | Union, SC | 09/01/2005 | 08/10/2005
57,874 | Levy Group (The) (UNITE) | New York, NY | 09/02/2005 | 09/01/2005
57,875 | Levolor Kirsch Window Fashions (Comp) | Freeport, IL | 09/02/2005 | 09/01/2005
57,876 | Edelweiss Mfg. Co., Inc. (Comp) | Hickory, NC | 09/02/2005 | 08/25/2005
57,877 | TFL USA/Canada, Inc. (Comp) | Greensboro, NC | 09/02/2005 | 08/29/2005
57,878 | Solutia, Inc. (Wkrs) | Decatur, AL | 09/02/2005 | 08/30/2005
57,879 | Legacy Manufacturing Co. (State) | Tacoma, WA | 09/02/2005 | 08/31/2005
57,880 | KeyTronicEMS (Comp) | Spokane, WA | 09/02/2005 | 08/31/2005
57,881 | Champion Labs (Wkrs) | Albion, IL | 09/02/2005 | 08/21/2005
57,882 | Jeld-Wen of Washington (Wkrs) | Everett, WA | 09/02/2005 | 08/30/2005
57,883 | Invacare Corp. (Wkrs) | Elyria, OH | 09/02/2005 | 09/01/2005
57,884A | General Electric () | Ft.Wayne, IN | 09/02/2005 | 09/01/2005
57,884 | General Electric (Comp) | Ft. Wayne, IN | 09/02/2005 | 09/01/2005
57,885 | Pliana, Inc. (Comp) | Charlotte, NC | 09/02/2005 | 09/01/2005
57,886 | LSM Mfg. Co., Inc. (State) | Waterbury, CT | 09/02/2005 | 09/02/2005
57,887 | Parlex Corp. (Comp) | Methuen, MA | 09/02/2005 | 09/02/2005

[FR Doc. E5-5295 Filed 9-27-05; 8:45 am]

BILLING CODE 4510-30-P